OFFICE OF PERSONNEL MANAGEMENT

5 CFR Part 532

RIN 3206-AL77

Prevailing Rate Systems; Redefinition of Certain Appropriated Fund Federal Wage System Wage Areas; Corrections

AGENCY: U.S. Office of Personnel Management.

ACTION: Corrections to final rule.

SUMMARY: The U.S. Office of Personnel Management published a final rule in the Federal Register on May 4, 2009 (74 FR 20405), redefining certain appropriated fund Federal Wage Systems wage areas. This document corrects three errors in that final rule.

DATES: Effective Date: June 17, 2009.

FOR FURTHER INFORMATION CONTACT: Madeline Gonzalez, (202) 606-2838; e-mail pay-performance-policy@opm.gov; or FAX: (202) 606-4264.

SUPPLEMENTARY INFORMATION: In a final rule published in the Federal Register on May 4, 2009 (74 FR 20405), the U.S. Office of Personnel Management (OPM) inadvertently omitted Troup County, GA, from the area of application of the Columbus, GA, Federal Wage System (FWS) wage area. Troup County should have been listed immediately following Taylor County.

OPM inadvertently listed McDonald County, MO, as part of the area of application of the Southern Missouri FWS wage area. McDonald County should not have been listed because OPM had previously redefined this county to the Tulsa, OK, FWS area of application in a final rule issued on February 9, 2009 (74 FR 6351).

The final regulations listed Washabaugh County, SD, as part of the area of application of the Eastern South Dakota FWS wage area. Washabaugh County should not have been listed because it no longer exists, having merged with Jackson County, SD, in 1983.

This document corrects the final regulation by revising the listings for the Columbus, GA, Southern Missouri, and Eastern South Dakota wage areas.

List of Subjects in 5 CFR Part 532

Administrative practice and procedure, Freedom of information, Government employees, Reporting and recordkeeping requirements, Wages.

U.S. Office of Personnel Management.
Charles D. Grimes III,
Deputy Associate Director for Performance and Pay Systems.

Accordingly, the U.S. Office of Personnel Management is correcting 5 CFR part 532 as follows:

PART 532—PREVAILING RATE SYSTEMS

1. The authority citation for part 532 continues to read as follows:

Authority: 5 U.S.C. 5343, 5346; § 532.707 also issued under 5 U.S.C. 552.

Appendix C—[Amended]

2. Amend appendix C to subpart B of part 532 by adding “Troup” in between “Taylor” and “Webster” under the area of application for the State of Georgia in the Columbus, GA, wage area.

3. Amend appendix C to subpart B of part 532 by removing “McDonald” under the area of application for the State of Missouri in the Southern Missouri wage area.

4. Amend appendix C to subpart B of part 532 by removing “Washabaugh” under the area of application for the State of South Dakota in the Eastern South Dakota wage area.

[FR Doc. E9-14127 Filed 6-16-09; 8:45 am]

BILLING CODE 6325-39-P